DEPARTMENT OF THE INTERIOR

National Park Service

[NPS-WASO-NRNHL-0212-9636; 2200-3200-665]

National Register of Historic Places; Notification of Pending Nominations and Related Actions

Nominations for the following properties being considered for listing or related actions in the National Register were received by the National Park Service before February 18, 2012. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington DC 20005; or by fax, 202-371-6447. Written or faxed comments should be submitted by March 26, 2012. Before including your address, phone number, email address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

CALIFORNIA

Los Angeles County

Fox Wilshire Theatre, 8440 Wilshire Blvd., Beverly Hills, 12000164

DELAWARE

New Castle County

Stockton—Montmorency, 1700 Walnut Green Rd., Greenville, 12000165

GEORGIA

Chattooga County

Paradise Gardens, 84 Knox St., Pennville, 12000166

IOWA

Harrison County

Woodbine Savings Bank, 424 Walker St., Woodbine, 12000167

MONTANA

Cascade County

Warden, O.S., Bridge, (Montana's Steel Stringer and Steel Girder Bridges MPS), 10th Ave. S. across Missouri R., Great Falls, 12000168

Chouteau County

Shonkin Creek Bridge, (Montana's Steel Stringer and Steel Girder Bridges MPS), Approx. mi. 21, Shonkin Rd., Geraldine, 12000169

Custer County

Locate Creek Bridge, (Montana's Steel Stringer and Steel Girder Bridges MPS), Mi. 3, N. Locate Rd., Miles City, 12000170

Fergus County

Robinson, Fred, Bridge, (Montana's Steel Stringer and Steel Girder Bridges MPS), Mi. 88, US 191, Lewiston, 12000171

Missoula County

Orange Street Underpass, (Montana's Steel Stringer and Steel Girder Bridges MPS), Orange St. between N. 2nd St. W., & W. Alder St., Missoula, 12000172

Toole County

Marias River Bridge, (Montana's Steel Stringer and Steel Girder Bridges MPS), Mi. 6, Marias Valley Rd., Shelby, 12000173

Yellowstone County

Huntley Bridge, (Montana's Steel Stringer and Steel Girder Bridges MPS), Mi. 12, MT 312, Huntley, 12000175

Yellowstone County

Mossman Overpass, (Montana's Steel Stringer and Steel Girder Bridges MPS), Mi. 57, N. I-90 Frontage Rd., Laurel, 12000174

NEW YORK

Erie County

Newton—Hopper Village Site, Address Restricted, Elma, 12000176

Jefferson County

Wood, Amos, House, 5571 Cty. Rd. 120, North Landing, 12000177

VIRGINIA

Norfolk Independent city

USS WISCONSIN (BB-64) battleship, 1 Waterside Dr., Norfolk (Independent City), 12000178

Prince William County

Prince William Forest Park, 18100 Park Headquarters Rd., Triangle, 12000179

Waynesboro Independent City

General Electric Specialty Control Plant, 1 Solutions Way, Waynesboro (Independent City), 12000180

WEST VIRGINIA

Kanawha County

Luna Park Historic District, Roughly bounded by Main St., Glenwood Ave., Delaware Ave., & Kanawha Blvd. W., Charleston, 12000181

WISCONSIN

Oconto County

Archibald Lake Mound Group, Address Restricted, Townsend, 12000182

[FR Doc. 2012-5721 Filed 3-8-12; 8:45 am]

BILLING CODE 4310-51-P